DEPARTMENT OF LABOR

Occupational Safety and Health Administration

[Docket No. OSHA-2015-0002]

Advisory Committee on Construction Safety and Health

AGENCY: Occupational Safety and Health Administration (OSHA), Labor.

ACTION: Announcement of Advisory Committee on Construction Safety and Health (ACCSH) and ACCSH Workgroup Meetings and Request for Nominations for Membership on ACCSH.

SUMMARY: ACCSH will meet December 2, 2015, in Washington, DC. In conjunction with the ACCSH meeting, ACCSH Workgroups will meet December 1, 2015. OSHA also announces the Assistant Secretary of Labor's request for nominations for membership on ACCSH.

DATES: ACCSH meeting: ACCSH will meet from 8:30 a.m. to 12 p.m., e.t., Wednesday, December 2, 2015.

ACCSH Workgroup meetings: ACCSH Workgroups will meet Tuesday, December 1, 2015. (For Workgroup meeting times, see the schedule under “Workgroup Meetings” in the SUPPLEMENTARY INFORMATION section of this notice.)

Submit (postmark, send, transmit) comments, requests to address the ACCSH meeting, speaker presentations (written or electronic), and requests for special accommodations for the ACCSH meeting and ACCSH Workgroup meetings, by November 13, 2015.

Nominations for ACCSH membership: Submit nominations for ACCSH membership by December 28, 2015.

ADDRESSES: Submission of comments, requests to speak, and speaker presentations for the ACCSH meeting, and nominations for ACCSH membership: Submit comments, requests to speak, and speaker presentations for the ACCSH meeting, and nominations and supporting material for ACCSH membership, using one of the following methods:

Electronically: Submit materials, including attachments, electronically at: http://www.regulations.gov, which is the Federal eRulemaking Portal. Follow the on-line instructions for submissions.

Facsimile (Fax): If the submission, including attachments, does not exceed 10 pages, you may fax it to the OSHA Docket Office at (202) 693-1648.

Regular mail, express mail, hand delivery, or messenger (courier) service: Submit materials to the OSHA Docket Office, Docket No. OSHA-2015-0002, Room N-2625, U.S. Department of Labor, 200 Constitution Avenue NW., Washington, DC 20210; telephone: (202) 693-2350 (TTY (877) 889-5627). OSHA's Docket Office accepts deliveries (hand deliveries, express mail, and messenger service) during normal business hours, 8:15 a.m.-4:45 p.m., e.t., weekdays.

Instructions: Submissions must include the agency name and docket number for this Federal Register notice (Docket No. OSHA-2015-0002). Due to security-related procedures, submissions by regular mail may experience significant delays. Please contact the OSHA Docket Office for information about security procedures for making submissions. For additional information on submitting comments, requests to speak, and speaker presentations, see the SUPPLEMENTARY INFORMATION section of this notice.

OSHA will post comments, requests to speak, and speaker presentations, including any personal information provided, without change, at: http://www.regulations.gov. Therefore, OSHA cautions you about submitting personal information such as Social Security numbers and birthdates.

Location of the ACCSH meeting: ACCSH and ACCSH Workgroups will meet in Room N-4437 A-D, U.S. Department of Labor, 200 Constitution Avenue NW., Washington, DC 20210.

Requests for special accommodations: Please submit requests for special accommodations to attend the ACCSH meeting and ACCSH Workgroup meetings to Ms. Gretta Jameson, OSHA, Office of Communications, Room N-3647, U.S. Department of Labor, 200 Constitution Avenue NW., Washington, DC 20210; telephone: (202) 693-1999; email: jameson.grettah@dol.gov.

FOR FURTHER INFORMATION CONTACT: For press inquiries: Mr. Frank Meilinger, Director, OSHA Office of Communications, Room N-3647, U.S. Department of Labor, 200 Constitution Avenue NW., Washington, DC 20210; telephone: (202) 693-1999; email: meilinger.francis2@dol.gov.

For general information about ACCSH, the ACCSH meetings, and ACCSH membership: Mr. Damon Bonneau, OSHA, Directorate of Construction, Room N-3468, U.S. Department of Labor, 200 Constitution Avenue NW., Washington, DC 20210; telephone: (202) 693-2020; email: bonneau.damon@dol.gov.

Copies of this Federal Register notice: Electronic copies of this Federal Register notice are available at: http://www.regulations.gov. This notice, as well as news releases and other relevant information, also are available on the OSHA Web page at: http://www.osha.gov.

SUPPLEMENTARY INFORMATION:

I. ACCSH Meeting

Background: ACCSH will meet December 2, 2015, in Washington, DC. The meeting is open to the public. OSHA transcribes ACCSH meetings and prepares detailed minutes of meetings. OSHA places the transcript and minutes in the public docket for the meeting. The docket also includes speaker presentations, comments, and other materials submitted to ACCSH.

ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (see also 29 CFR 1911.10 and 1912.3). In addition, the OSH Act and CSA require that the Assistant Secretary consult with ACCSH before the Agency proposes any occupational safety and health standard affecting construction activities (29 CFR 1911.10; 40 U.S.C. 3704).

Meeting agenda: The tentative agenda for this meeting includes:

• Assistant Secretary's Agency update and remarks;

• Directorate of Construction update;

• ACCSH's consideration of, and recommendation on, the following proposal:

—Eliminating Requirements for Employee Social Security Numbers from OSHA Standards;

• OSHA Data update;

• 2015 National Safety Stand-Down update; and,

• Public Comment Period.

II. Workgroup Meetings

The following ACCSH Workgroups will meet concurrently on December 1, 2015, from 1 to 5 p.m.:

• Health Hazards, Emerging Issues, and Prevention through Design.

• Temporary Workers.

• Training and Outreach.

ACCSH Workgroup meetings are open to the public. For additional information on ACCSH Workgroup meetings or participating in them, please contact Mr. Bonneau or look on the ACCSH page on OSHA's Web page at: http://www.osha.gov.

Attending the meeting: Individuals attending the meetings at the U.S. Department of Labor must enter the building at the visitors' entrance, 3rd and C Streets, NW., and pass through building security. Attendees must have valid government-issued photo identification (such as a driver's license) to enter the building. For additional information about building-security measures for attending ACCSH meetings, please contact Ms. Jameson (see “Requests for special accommodations” in the ADDRESSES section of this notice).

Requests to speak and speaker presentations: Attendees who want to address ACCSH at the meeting must submit a request to speak, as well as any written or electronic presentation, by November 13, 2015, using one of the methods listed in the ADDRESSES section. The request must state:

• The amount of time requested to speak;

• The interest you represent (e.g., business, organization, affiliation), if any; and

• A brief outline of your presentation.

PowerPoint presentations and other electronic materials must be compatible with PowerPoint 2010 and other Microsoft Office 2010 formats.

Alternately, at the ACCSH meeting, you may request to address ACCSH briefly by signing the public-comment request sheet and listing the topic(s) you will address. You also must provide 20 hard copies of any materials, written or electronic, you want to present to ACCSH.

The ACCSH Chair may grant requests to address ACCSH as time and circumstances permit.

Public docket of the ACCSH meeting: OSHA will place comments, requests to speak, and speaker presentations, including any personal information you provide, in the public docket of this ACCSH meeting without change, and those documents will be available online at: http://www.regulations.gov. OSHA also places in the public docket the meeting transcript, meeting minutes, documents presented at the ACCSH meeting, and other documents pertaining to the ACCSH and ACCSH Workgroup meetings. These documents are available online at: http://www.regulations.gov.

Access to the public record of ACCSH and ACCSH Workgroup meetings: To read or download documents in the public docket of this ACCSH meeting, go to Docket No. OSHA-2015-0002 at: http://www.regulations.gov. The http://www.regulations.gov index also lists all documents in the public record for these meetings; however, some documents (e.g., copyrighted materials) are not publicly available through that Web page. All documents in the public record, including materials not available through http://www.regulations.gov, are available for inspection in the OSHA Docket Office (see ADDRESSES section). Contact the OSHA Docket Office for assistance in making submissions to, or obtaining materials from, the public docket.

III. Request for Nominations for Membership on ACCSH

The Assistant Secretary of Labor for Occupational Safety and Health (Assistant Secretary) invites interested persons to submit nominations for membership on ACCSH.

Background: ACCSH is a continuing advisory committee established under Section 107(e) of the CSA to advise the Secretary of Labor (Secretary) in the formulation of construction safety and health standards, as well as on policy matters arising under the CSA and the OSH Act. In particular, 29 CFR 1911.10(a) and 1912.3(a) provide that the Assistant Secretary shall consult with ACCSH whenever the Agency proposes any safety or health standard that affects the construction industry.

ACCSH operates in accordance with the CSA, the OSH Act, the Federal Advisory Committee Act (FACA) (5 U.S.C. App. 2), and regulations issued pursuant to those statutes (29 CFR part 1912, 41 CFR part 102-3). ACCSH generally meets two to four times a year.

ACCSH membership: ACCSH consists of 15 members whom the Secretary appoints. ACCSH members generally serve staggered two-year terms, unless they resign, cease to be qualified, or become unable to serve, or the Secretary removes them (29 CFR 1912.3(e)). The Secretary may appoint ACCSH members to successive terms. No member of ACCSH, other than members who represent employers or employees, shall have an economic interest in any proposed rule that affects the construction industry (29 CFR 1912.6).

The categories of ACCSH membership, and the number of new members to be appointed to replace members whose terms will expire, are:

• Five members who are qualified by experience and affiliation to present the viewpoint of employers in the construction industry—two employer representatives will be appointed;

• Five members who are similarly qualified to present the viewpoint of employees in the construction industry—two employee representatives will be appointed;

• Two representatives of State safety and health agencies—one representative from a State safety and health agency will be appointed;

• Two public members, qualified by knowledge and experience to make a useful contribution to the work of ACCSH, such as those who have professional or technical experience and competence with occupational safety and health in the construction industry—one public representative will be appointed; and

• One representative designated by the Secretary of the Department of Health and Human Services and appointed by the Secretary—no new appointment will be made.

The Department of Labor is committed to equal opportunity in the workplace and seeks broad-based and diverse ACCSH membership. Any interested person or organization may nominate one or more individuals for membership on ACCSH. Interested persons also are invited and encouraged to submit statements in support of nominees.

Submission requirements: Nominations must include the following information:

• Nominee's contact information and current employment or position;

• Nominee's résumé or curriculum vitae, including prior membership on ACCSH and other relevant organizations and associations;

• Category of membership (employer, employee, public, State safety and health agency) that the nominee is qualified to represent;

• A summary of the background, experience, and qualifications that addresses the nominee's suitability for each of the nominated membership categories;

• Articles or other documents the nominee has authored that indicate the nominee's knowledge, experience, and expertise in occupational safety and health, particularly as it pertains to the construction industry; and

• A statement that the nominee is aware of the nomination, is willing to regularly attend and participate in ACCSH meetings, and has no conflicts of interest that would preclude membership on ACCSH.

• A letter signed by the nominee, stating: “In agreeing to serve as a member of the Advisory Committee on Construction Safety and Health (ACCSH), I attest to the following: During the last 10 years, I have not been convicted of a felony, or been imprisoned, been on probation, or been on parole, for a felony; and I am not currently under charges for a felony. I certify that, to the best of my knowledge and belief, the above-information on this Self-Certification is true, correct, complete, and made in good faith.”

Member selection: The Secretary will select ACCSH members on the basis of their experience, knowledge, and competence in the field of occupational safety and health, particularly as it pertains to the construction industry. Information received through this nomination process, in addition to other relevant sources of information, will assist the Secretary in appointing members to ACCSH. In selecting ACCSH members, the Secretary will consider individuals nominated in response to this Federal Register notice, as well as other qualified individuals.

Instructions for submitting nominations: All nominations, supporting documents, attachments, and other materials must identify the Agency name and the docket number for this Federal Register notice (Docket No. OSHA-2015-0002). Submit materials electronically, by FAX, or by hard copy. You may supplement electronic submissions by attaching electronic files. If you supplement electronic submissions with hard-copy documents, submit the hard copy documents to the OSHA Docket Office and clearly identify the electronic submission by Agency name and docket number (Docket No. OSHA-2015-0002) so the Docket Office can attach the hard-copy documents to the appropriate electronic submission.

The OSHA Docket Office will post all submissions, including personal information provided, in the docket without change. Therefore, OSHA cautions interested parties about submitting personal information such as Social Security numbers and birthdates. Guidance on submitting nominations and supporting materials is available on-line at: http://www.regulations.gov and from the OSHA Docket Office.

Access to docket: The http://www.regulations.gov index lists all submissions provided in response to this Federal Register notice; however, some information (e.g., copyrighted material) is not publicly available to read or download from that Web page. All submissions, including materials not available on-line, are available for inspection at the OSHA Docket Office. For information about accessing materials in Docket No. OSHA-2015-0002, including materials not available on-line, contact the OSHA Docket Office.

Authority and Signature

David Michaels, Ph.D., MPH, Assistant Secretary of Labor for Occupational Safety and Health, directed the preparation of this notice under the authority granted by 29 U.S.C. 656; 40 U.S.C. 3704; 5 U.S.C. App. 2; 29 CFR parts 1911 and 1912; 41 CFR 102-3; and Secretary of Labor's Order No. 1-2012 (77 FR 3912, Jan. 25, 2012).

Signed at Washington, DC, on October 23, 2015.
David Michaels,
Assistant Secretary of Labor for Occupational Safety and Health.

[FR Doc. 2015-27525 Filed 10-28-15; 8:45 am]

BILLING CODE 4510-26-P